DEPARTMENT OF THE INTERIOR

Bureau of Land Management

[LLNVS0100.L51010000.ER0000.LVRWF1104100; NVN-085801, NVN-088592, NVN-089530, and NVN-090050; MO# 4500022828; TAS: 14X5017]

Notice of Intent To Prepare a Supplemental Environmental Impact Statement and a Resource Management Plan Amendment, and Notice of Segregation for the Proposed First Solar South Project Near Primm in Clark County, NV

AGENCY: Bureau of Land Management, Interior.

ACTION: Notice of Intent.

SUMMARY: In compliance with the National Environmental Policy Act of 1969, as amended (NEPA), the Bureau of Land Management (BLM), Las Vegas Field Office (LVFO), will prepare a Supplemental Environmental Impact Statement (EIS) and a proposed amendment to the Las Vegas Resource Management Plan (RMP) for a proposed solar energy project located on public lands in Clark County, Nevada. Publication of this notice initiates the scoping process to solicit public comments and identifies issues for both actions. Publication of this notice also serves to segregate the identified lands from appropriation under the public land laws, including location under the Mining Law, but not the Mineral Leasing Act or the Materials Act, subject to valid existing rights.

DATES: This notice initiates the public scoping process. Comments on issues may be submitted in writing until October 31, 2011. The date(s) and location(s) of any scoping meetings will be announced at least 15 days in advance through local news media and the BLM Web site at: http://www.blm.gov/nv/st/en/fo/lvfo.html. A temporary segregation of the lands identified herein is effective immediately upon publication of this notice in the Federal Register.

ADDRESSES: Written comments may be submitted by the following methods:

• E-mail: SilverStateSouthEIS@blm.gov.

• Fax: (702) 515-5010, attention Gregory Helseth.

• Mail: Bureau of Land Management, Las Vegas Field Office, Attn: Gregory Helseth, 4701 North Torrey Pines Drive, Las Vegas, Nevada 89130-2301.

FOR FURTHER INFORMATION CONTACT: Gregory Helseth, Renewable Energy Project Manager, at (702) 515-5173; or e-mail at SilverStateSouthEIS@blm.gov. Please also contact Gregory Helseth to have your name added to the mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Silver State Solar, LLC, has submitted a right-of-way (ROW) application for the construction, operation, maintenance, and termination of a solar energy generation facility on 13,043 acres of public land east of Primm, Nevada. The ROW application is assigned BLM case number NVN-089530. This application expands on ROW application NVN-085801. The proposed solar energy project would consist of photovoltaic panels and related ROW appurtenances, including a substation and switchyard facilities, and would produce about 400 megawatts of electricity.

The Supplemental EIS will address new information associated with NVN-089530 and update as necessary the consideration of NVN-085801, which was analyzed in the Final EIS for the Silver State Solar Energy Project. The Record of Decision signed October 12, 2010 for the Silver State Solar Energy Project did not authorize all phases of application NVN-085801.

Approval of ROW application NVN-089530 will require amendment of the October 1998 Las Vegas RMP in order to address proposed changes in land and resource use within the Jean Lake/Roach Lake Special Recreation Management Area (SRMA). The purpose of the public scoping process is to determine relevant issues that will influence the scope of the environmental analysis, including alternatives, and guide the process for developing the Supplemental EIS. At present, the BLM has identified the following preliminary issues: Impacts to threatened and endangered species, visual resources, recreation and off-highway vehicle use; and socioeconomic and cumulative impacts. The Supplemental EIS will analyze the site-specific impacts on air quality, biological resources, cultural resources, special designations (SRMA), water resources, geological resources and hazards, hazardous materials handling, land and airspace use, noise, paleontological resources, public health, socioeconomics, soils, traffic and transportation, visual resources, wilderness characteristics, waste management, worker safety, and fire protection; as well as facility-design engineering, efficiency, reliability, transmission-system engineering, transmission line safety, and nuisance issues.

By this notice, the BLM is complying with requirements in 43 CFR 1610.2(c) to notify the public of potential amendments to land use plans. The BLM will integrate the land use planning process with the NEPA process for this project. The BLM will utilize and coordinate the NEPA commenting process to satisfy the public involvement process for Section 106 of the National Historic Preservation Act (16 U.S.C. 470(f)) as provided for in 36 CFR 800.2(d)(3). Native American tribal consultations will be conducted in accordance with policy. Tribal concerns will be given due consideration, including impacts on Indian trust assets. Federal, State, and local agencies, as well as individuals or organizations that may be interested in or affected by the BLM's decision on this project, are invited to participate in the scoping process and, if eligible, may request or be requested by the BLM to participate as a cooperating agency.

Before including your address, phone number, e-mail address, or other personal identifying information in your comment, you should be aware that your entire comment—including your personal identifying information—may be made publicly available at any time. While you can ask us in your comment to withhold your personal identifying information from public review, we cannot guarantee that we will be able to do so.

Segregation of Lands: An Interim Rule, published in the Federal Register (76 FR 23198) on April 26, 2011, amended the BLM regulations found in 43 CFR parts 2090 and 2800 to provide provisions to allow the BLM to temporarily segregate from the operation of the public land laws, by publication of a Federal Register notice, public lands included in a pending solar energy generation ROW application in order to promote the orderly administration of the public lands. Upon segregation under the Interim Rule, such lands will not be subject to appropriation under the public land laws, including location under the Mining Law of 1872 (but not the Mineral Leasing Act or the Materials Act), subject to valid existing rights, for a period of up to 2 years.

This segregation is warranted to allow for the orderly administration of the public lands to facilitate the development of valuable renewable resources and to avoid conflicts between renewable energy generation and mining claims. This temporary segregation does not affect valid existing rights in mining claims located before this segregation notice. Licenses, permits, cooperative agreements, or discretionary land use authorizations of a temporary nature which would not impact lands identified in this notice may be allowed with the approval of an authorized officer of the BLM during the segregative period.

The lands segregated under this Notice are legally described as follows:

Mount Diablo Meridian

T. 26 S., R. 59 E.,

Sec. 13, Lots 1 to 8, inclusive;

Sec. 14;

Sec. 23 E½;

Sec. 24, Lots 1 to 16, inclusive;

Secs. 25 and 26;

Sec. 27, SE¼;

Sec. 34, Lot 1, E½, portion of all public lands east of ROW CC0360 Union Pacific Railroad;

Secs. 35 and 36.

T. 27 S., R. 59 E.,

Sec. 1, Lots 1 to 4, inclusive, S½NE¼, S½NW¼, and S½;

Sec. 2, Lots 1 to 4, inclusive, S½NE¼, S½NW¼, and S½;

Sec. 3, Lot 1, Lot 2, Lot 3, Lot 4, NE¼SE¼NE¼, SE¼SE¼NE¼, NE¼NE¼SE¼, SE¼NE¼SE¼, and SE¼SE¼SE¼;

Sec. 9, NE¼SE¼, SW¼SE¼, SE¼SW¼SE¼, NE¼SW¼SE¼, SE¼NW¼SE¼, and NE¼NW¼SE¼, portion of public lands east of ROW CC0360 Union Pacific Railroad;

Sec. 10, SE¼NE¼, N½NE¼, and S½;

Secs. 11 to 15, inclusive;

Sec. 22, Lots 2 to 13, inclusive, SW¼NE¼, SE¼NW¼, and NW¼SW¼;

Secs. 23 and 24;

Sec. 25, N½;

Sec. 26, Lots 2 to 13, inclusive, SW¼NE¼, SE¼NW¼, and NW¼SW¼;

Sec. 27, Lots 4 to 6, inclusive.

The area described contains 13,043.20 acres, more or less, in Clark County, Nevada.

The BLM intends to resurvey T. 27 S., R. 59 E., sec. 3, lots 1 through 3. The description will be replaced for those lands upon final approval of the official plat of survey. The segregation of lands identified in this notice will not exceed 2 years from the date of publication. Termination of the segregation, as provided in the Interim Rule, is the date that is the earliest of the following: Upon issuance of a decision by the authorized officer granting, granting with modifications, or denying the application for a ROW; automatically at the end of the 2 year segregation; or upon publication of a Federal Register notice of termination of the segregation. Upon termination of segregation of these lands, all lands subject to this segregation will automatically reopen to appropriation under the public land laws.

Authority: 43 CFR 2800 and 2090.

Robert B. Ross Jr.,
Las Vegas Field Office Manager.

[FR Doc. 2011-22345 Filed 8-31-11; 8:45 am]

BILLING CODE 4310-HC-P